FEDERAL RETIREMENT THRIFT INVESTMENT BOARD

Sunshine Act Meeting

Time and Date: 10 a.m. (EDT) October 10, 2000.

Place: 4th Floor, Conference Room 4506, 1250 H Street NW., Washington, DC.

Status: Open.

Matters to be Considered:

1. Approval of the minutes of the September 11, 2000, Board member meeting.

2. Thrift Savings Plan activity report by the Executive Director.

Contact Person for more information: Thomas J. Trabucco, Director, Office of External Affairs, (202) 942-1640.

Dated: September 26, 2000.
Elizabeth S. Woodruff,
General Counsel, Federal Retirement Thrift Investment Board.

[FR Doc. 00-25135 Filed 9-26-00; 4:59 pm]

BILLING CODE 6760-01-M